DEPARTMENT OF AGRICULTURE

Forest Service

Notice of Issuance of Final Permanent Recreational Shooting Order in the Sierra Vista Ranger District of the Coronado National Forest

AGENCY: Forest Service, Agriculture (USDA).

ACTION: Notice.

SUMMARY: The Forest Service (Forest Service or Agency), United States Department of Agriculture, is issuing a final permanent order prohibiting recreational shooting in the proximity to canyon roads on the eastern side of the Huachuca Mountains in the vicinity of the City of Sierra Vista, Fort Huachuca, and the communities of Hereford and Palominas of the Sierra Vista Ranger District in the Coronado National Forest, which covers approximately 5,090 acres in Cochise County, Arizona.

ADDRESSES: The final permanent order, map, response to comments on the proposed permanent order, justification for the final permanent order, and regulatory certifications for the final permanent order are posted on the Coronado National Forest's web page at https://www.fs.usda.gov/resources/coronado/landmanagement/resourcemanagement.

FOR FURTHER INFORMATION CONTACT: Celeste Kinsey, District Ranger, 520-378-0311, or celeste.kinsey@usda.gov. Individuals who use telecommunication devices for the hearing-impaired may call the Federal Relay Service at 800-877-8339, 24 hours a day, every day of the year, including holidays.

SUPPLEMENTARY INFORMATION: Section 4103 of the John D. Dingell, Jr. Conservation, Management, and Recreation Act of 2019 (Pub. L. 116-9, title IV (Sportsmen's Access and Related Matters)), hereinafter “the Dingell Act,” requires the Forest Service to provide advance notice and opportunity for public comment before temporarily or permanently closing any National Forest System lands to hunting, fishing, or recreational shooting.

The final permanent order prohibiting recreational shooting in the proximity to canyon roads on the eastern side of the Huachuca Mountains in the vicinity of the City of Sierra Vista, Fort Huachuca, and the communities of Hereford and Palominas of the Sierra Vista Ranger District in the Coronado National Forest has completed the public notice and comment process required under the Dingell Act. The Forest Service is issuing the final permanent recreational shooting order. The final permanent order, map, response to comments on the proposed permanent order, justification for the final permanent order, and regulatory certifications for the final permanent order are posted on the Coronado National Forest's web page at https://www.fs.usda.gov/resources/coronado/landmanagement/resourcemanagement.

Dated: April 11, 2023.
Jacqueline Emanuel,
Associate Deputy Chief, National Forest System.

[FR Doc. 2023-08248 Filed 4-18-23; 8:45 am]

BILLING CODE 3411-15-P